DEPARTMENT OF TRANSPORTATION

Federal Motor Carrier Safety Administration

Qualification of Drivers; Exemption Applications; Vision

AGENCY: Federal Motor Carrier Safety Administration (FMCSA), DOT.

ACTION: Notice of denials.

SUMMARY: FMCSA announces its denial of 112 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal vision standard for a renewable two-year period if it finds “such an exemption would likely achieve a level of safety that is equivalent to, or greater than, the level that would be achieved absent such an exemption.” The procedures for requesting an exemption are set out in 49 CFR part 381.

Accordingly, FMCSA evaluated 112 individual exemption requests on their merits and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 13 applicants lacked sufficient driving experience during the three-year period prior to the date of their application:

Cehic, Muhamed

Emerson, Mark S.

Englis, James C.

Evans, Ronald P.

Fiddler, Eddie W.

Mears, Allan

Moon, Robert F.

Odom, Roy

Rugg, Thomas I.

Seyfried, Jr., William J.

Smith, Jr., Fornum J.

Sooy, Donna A.

Vanlier, James A.

The following 12 applicants did not have any experience operating a CMV.

Bomholt, Scott P.

Bradshaw, Owen D.

Fanton, Arthur

Garcia, Adrian

Kayvani, Ali A.

McEntee, Robert O.

Phinney, Michael S.

Romo, Manuel

Shoebridge, Nicholas R.

Solis, Rafael P.

Watson, Jeffrey K.

Youngblood, Justin P.

The following 19 applicants did not have 3 years of experience driving a CMV on public highways with the vision deficiency.

Bennett, Gerlad W.

Buderus, Dusty L.

Doolin, Roger B.

Frasier, Jason A.

Garcia, Francisco J.

Irving, Johnny L.

Jamal, Azizi A.

Kalenbaugh, Matthew C.

Klaska, Andrew C.

Larrow, Todd P.

Lawhorn, Larry D.

Long, Tina Y.

Luterbach, Douglas D.

Miller, James C.

Morales, David O.

Phillips, William E.

Richards, Jr., Joel

Rusin, Adam A.

Wilson, Jr., Thomas C.

The following 7 applicants did not have 3 years of recent experience driving a CMV with the vision deficiency.

Coffield, James J.

Czyz, Jean E.

Karow, Kevin G.

Klatt, Michael A.

Mieszala, Mark D.

Pena, Gonzalo

Snyder, Jr., Raymond L.

The following 21 applicants did not have sufficient driving experience over the past 3 years under normal highway operating conditions.

Bothwell, Robert L.

Covert, LyDale M.

Dosher, Jacob F.

Dugger, William W.

Greene, James P.

Gunn, Aubrey D.

Haman, Darin E.

Hillsman, Archie C.

Jackson, Donald E.

Lachney, Shelton R.

Marks, Michael D.

Martell, Yandy H.

Mast, Jennifer E.

Mathews, Keith D.

Motes, Marvin L.

Perrotta, Andrew C.

Picray, Jerald A.

Powell, James R.

Robertson, Kyle E.

Terry, Charles A.

White, Keith J.

The following 6 applicants had commercial driver's license suspensions during the three-year review period in relation to a moving violation. Applicants do not qualify for an exemption with a suspension during the three-year period.

Baillargeon, David L.

Nieves, Julio

Pete, Freddy H.

Shoemaker, Stephen K.

Taflinger, Sr., James B.

Torzon, Martin R.

One applicant, Gary E. Lathrop, did not have verifiable proof of commercial driving experience over the past 3 years under normal highway operating conditions that would serve as an adequate predictor of future safe performance.

One applicant, Randy A. Miller, did not demonstrate the level of safety required for interstate driving.

The following 5 applicants did not hold a license which allowed operation of vehicles over 10,000 pounds for all or part of the three-year period.

Bowman, Bruce E.

Boyce, Lennie J.

Gaines, Wilfred M.

Schmidt, Ronald D.

Steed, Marion D.

The following 9 applicants were denied for miscellaneous/multiple reasons.

Branham, Danny C.

Dinan, Patrick D.

Ellis, James

Holiday, Ryan L.

Hollister, Kevin B.

Norland, Anthony P.

Wellman, Carl F.

Westerbeck, Randolph A.

Whitehouse, Jayson M.

Two applicants, James O. Cook and Mark R. Kiser, were disqualified because their vision was not stable for the entire three-year review period.

One applicant, Mark G. Hurley, was a Canadian applicant.

Finally, the following 15 applicants met the current federal vision standards. Exemptions are not required for applicants that meet the current regulations for vision.

Adamire, Sr., Charles W.

Alvarez, Oscar O.

Blair, George E.

Denman, Irvin L.

Devine, David S.

Doucette, Joshua P.

Elbon, Richard L.

Guerrero, Alfonso

Jenkins, Jeannette D.

Kraft, Michael A.

Pruett, Jeffrey W.

Rose, Darryl W.

Thatcher, Dick J.

Thomas, Raymond L.

Watson, Norman J.

Issued on: November 28, 2008.
Larry W. Minor,
Associate Administrator for Policy and Program Development.

[FR Doc. E8-28942 Filed 12-5-08; 8:45 am]

BILLING CODE 4910-EX-P